DEPARTMENT OF THE INTERIOR

Minerals Management Service

Agency Information Collection Activities: Submitted for Office of Management and Budget (OMB) Review; Comment Request

AGENCY: Minerals Management Service (MMS), Interior.

ACTION: Notice of extension of an information collection (1010-0112).

SUMMARY: To comply with the Paperwork Reduction Act of 1995 (PRA), we are notifying the public that we have submitted to OMB an information collection request (ICR) to renew approval of the paperwork requirements in Form MMS-131, Performance Measures Data. This notice also provides the public a second opportunity to comment on the paperwork burden of these regulatory requirements.

DATES: Submit written comments by December 22, 2004.

ADDRESSES: You may submit comments either by fax (202) 395-6566 or e-mail (OIRA_DOCKET@omb.eop.gov) directly to the Office of Information and Regulatory Affairs, OMB, Attention: Desk Officer for the Department of the Interior (1010-0112). Mail or hand carry a copy of your comments to the Department of the Interior; Minerals Management Service; Attention: Rules Processing Team; Mail Stop 4024; 381 Elden Street; Herndon, Virginia 20170-4817. Interested parties may submit a copy of their comments on-line to MMS, the address is: https://ocsconnect.mms.gov. From the Public Connect “Welcome” screen, you will be able to either search for Information Collection 1010-0112 or select it from the “Projects Open For Comment” menu.

FOR FURTHER INFORMATION CONTACT: Cheryl Blundon, Rules Processing Team, (703) 787-1600. You may also contact Cheryl Blundon to obtain a copy, at no cost, of the form that involves the subject collection of information.

SUPPLEMENTARY INFORMATION: Title: Form MMS-131, Performance Measures Data.

OMB Control Number: 1010-0112.

Abstract: The Outer Continental Shelf (OCS) Lands Act (43 U.S.C. 1331 et seq.), as amended, requires the Secretary of the Interior to preserve, protect, and develop OCS oil, gas, and sulphur resources; make such resources available to meet the Nation's energy needs as rapidly as possible; balance orderly energy resource development with protection of the human, marine, and coastal environments; ensure the public a fair and equitable return on the resources of the OCS; and preserve and maintain free enterprise competition. These responsibilities are among those delegated to MMS. MMS generally issues regulations to ensure that operations in the OCS will meet statutory requirements; provide for safety and protect the environment; and result in diligent exploration, development, and production of OCS leases.

In 1991 MMS began promoting, on a voluntary basis, the implementation of a comprehensive Safety and Environmental Management Program (SEMP) for the offshore oil and gas industry as a complement to current regulatory efforts to protect people and the environment during OCS oil and gas exploration and production activities. From the beginning, MMS, the industry as a whole, and individual companies realized that at some point they would want to know the effect of SEMP on safety and environmental management of the OCS. The natural consequence of this interest was the establishment of performance measures. We are requesting OMB approval for a routine renewal of the Form MMS-131, Performance Measures Data. There are a few editorial changes, but no changes to the data elements.

The responses to this collection of information are voluntary, although we consider the information to be critical for assessing the effects of the OCS Safety and Environmental Management Program. We can better focus our regulatory and research programs on areas where the performance measures indicate that operators are having difficulty meeting MMS expectations. We are more effective in leveraging resources by redirecting research efforts, promoting appropriate regulatory initiatives, and shifting inspection program emphasis. The performance measures give us valuable quantitative information to use in judging the reasonableness of company requests for alternative compliance or departures under 30 CFR 250.141 and 250.142. We also use the information collected to work with industry representatives to identify and request “pacesetter” companies make presentations at periodic workshops.

Knowing how the offshore operators as a group are doing, and where their own company ranks, provides company management with information to focus their continuous improvement efforts. This leads to more cost-effective prevention actions and, therefore, better cost containment. This information also provides offshore operators and organizations with a credible data source to demonstrate to those outside the industry how well the industry and individual companies are doing.

No questions of a “sensitive” nature are asked, and the collection of information involves no proprietary information. We intend to release data collected on Form MMS-131 only in a summary format that is not company-specific. We will protect the information according to the Freedom of Information Act (5 U.S.C. 552) and its implementing regulations (43 CFR 2).

Frequency: The frequency is annual, with responses due during the 1st quarter of the calendar year.

Estimated Number and Description of Respondents: Approximately 100 Federal OCS oil and gas or sulphur lessees and we expect a 63 percent response rate.

Estimated Annual Reporting and Recordkeeping “Hour” Burden: We estimate the public reporting burden averages 8 hours per response. This includes the time for reviewing instructions, gathering and maintaining data, and completing and reviewing the information. The total annual hour burden is estimated to be 504 hours.

Estimated Annual Reporting and Recordkeeping “Non-Hour Cost” Burden: We have identified no “non-hour cost” burden associated with Form MMS-131.

Public Disclosure Statement: The PRA (44 U.S.C. 3501, et seq.) provides that an agency may not conduct or sponsor a collection of information unless it displays a currently valid OMB control number. Until OMB approves a collection of information, you are not obligated to respond.

Comments: Section 3506(c)(2)(A) of the PRA (44 U.S.C. 3501, et seq.) requires each agency “* * * to provide notice * * * and otherwise consult with members of the public and affected agencies concerning each proposed collection of information * * *” Agencies must specifically solicit comments to: (a) Evaluate whether the proposed collection of information is necessary for the agency to perform its duties, including whether the information is useful; (b) evaluate the accuracy of the agency's estimate of the burden of the proposed collection of information; (c) enhance the quality, usefulness, and clarity of the information to be collected; and (d) minimize the burden on the respondents, including the use of automated collection techniques or other forms of information technology.

To comply with the public consultation process, on June 22, 2004, we published a Federal Register notice (69 FR 34690) announcing that we would submit this ICR to OMB for approval. The notice provided the required 60-day comment period. In addition, § 250.199 provides the OMB control numbers for the information collection requirements imposed by the 30 CFR part 250 regulations and forms; specifies that the public may comment at any time on these collections of information; and provides the address to which they should send comments. This information is also contained in the PRA statement on Form MMS-131. We have received no comments in response to these efforts.

If you wish to comment in response to this notice, send your comments directly to the offices listed under the ADDRESSES section of this notice. The OMB has up to 60 days to approve or disapprove the information collection but may respond after 30 days. Therefore, to ensure maximum consideration, OMB should receive public comments by December 22, 2004.

Public Comment Policy: Our practice is to make comments, including names and addresses of respondents, available for public review during regular business hours. Individual respondents may request that we withhold their home address from the record, which we will honor to the extent allowable by law. There may be circumstances in which we would withhold from the record a respondent's identity, as allowable by the law. If you wish us to withhold your name and/or address, you must state this prominently at the beginning of your comment. However, we will not consider anonymous comments. We will make all submissions from organizations or businesses, and from individuals identifying themselves as representatives or officials of organizations or businesses, available for public inspection in their entirety.

MMS Information Collection Clearance Officer: Arlene Bajusz, (202) 208-7744.

Dated: August 27, 2004.
E.P. Danenberger,
Chief, Engineering and Operations Division.

[FR Doc. 04-25879 Filed 11-19-04; 8:45 am]

BILLING CODE 4310-MR-P